DEPARTMENT OF AGRICULTURE

Animal and Plant Health Inspection Service

[Docket No. 01-006-1]

Notice of Request for Reinstatement of an Expired Information Collection

AGENCY: Animal and Plant Health Inspection Service, USDA.

ACTION: Reinstatement of approval of an information collection; comment request.

SUMMARY: In accordance with the Paperwork Reduction Act of 1995, this notice announces the Animal and Plant Health Inspection Service's intention to request a reinstatement of an expired information collection in support of regulations preventing the spread of the Asian longhorned beetle and restricting the interstate movement of regulated articles from the quarantined areas.

DATES: We invite you to comment on this docket. We will consider all comments that we receive by July 20, 2001.

ADDRESSES: Please send four copies (an original and three copies) of your comment to: Docket No. 01-006-1, Regulatory Analysis and Development, PPD, APHIS, Suite 3C03, 4700 River Road, Unit 118, Riverdale, MD 20737-1238. Please state that your comment refers to Docket No. 01-006-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on Asian longhorned beetle quarantine regulations, contact Mr. Michael B. Stefan, Staff Officer, Invasive Species and Pest Management Staff, Plant Protection and Quarantine, APHIS, 4700 River Road Unit 134, Riverdale, MD 20737-1231; (301) 734-7338. For copies of more detailed information on the information collection, contact Mrs. Celeste Sickles, APHIS' Information Collection Coordinator, at (301) 734-7477.

SUPPLEMENTARY INFORMATION: Title: Asian Longhorned Beetle Quarantine.

OMB Number: 0579-0122.

Expiration Date of Approval: January 31, 2001.

Type of Request: Reinstatement of an expired information collection.

Abstract: The United States Department of Agriculture (USDA) is responsible for, among other things, the control and eradication of plant pests. The Plant Protection Act authorizes the Department to carry out this mission.

The Plant Protection and Quarantine (PPQ) program of USDA's Animal and Plant Health Inspection Service (APHIS) is responsible for implementing the provisions of the Act and does so through the enforcement of its domestic quarantine regulations in 7 CFR part 301.

The Asian longhorned beetle (native to China, Japan, Korea, and the Isle of Hainan) is a destructive pest of hardwood trees, including maple, elm, ash, and horse chestnut. The beetles bore into the heartwood of host trees, eventually killing them.

The Asian longhorned beetle has been found in hardwood trees in the boroughs of Brooklyn, Manhattan, and Queens in New York City, NY, and in portions of Suffolk and Nassau Counties, NY. The Asian longhorned beetle has also been found in the Village of Summit and portions of Cook and Du Page Counties, IL. If this insect spreads into the hardwood forests of the United States, it could cause substantial economic harm to the U.S. nursery and forest products industries.

To prevent this, we have regulations in place (contained in 7 CFR 301.51-1 through 301.51-9) quarantining the areas described above. These regulations also restrict the movement of regulated articles (such as nursery stock, green lumber, firewood, and other items) from these quarantined areas.

These regulations are designed to prevent the spread of the Asian longhorned beetle within the United States. Implementing the regulations requires us to engage in certain information collection activities, which necessitates the use of several forms, including limited permits, certificates, and compliance agreements.

We are asking the Office of Management and Budget (OMB) to approve these forms for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.4190 hours per response.

Respondents: State plant health protection authorities, State cooperators, and individuals involved in growing, packing, handling, transporting, and exporting plants and plant products.

Estimated annual number of respondents: 225.

Estimated annual number of responses per respondent: 1.4.

Estimated annual number of responses: 315.

Estimated total annual burden on respondents: 132 hours. (Due to averaging, the total annual burden hours may not equal the product of the annual number of responses multiplied by the reporting burden per response.)

All responses to this notice will be summarized and included in the request for OMB approval. All comments will also become a matter of public record.

Done in Washington, DC, this 16th day of May 2001.
Craig A. Reed,
Administrator, Animal and Plant Health Inspection Service.

[FR Doc. 01-12694 Filed 5-18-01; 8:45 am]

BILLING CODE 3410-34-U